DEPARTMENT OF HEALTH AND HUMAN SERVICES

Centers for Disease Control and Prevention

Statement of Organization, Functions, and Delegations of Authority

Part C (Centers for Disease Control and Prevention) of the Statement of Organization, Functions, and Delegations of Authority of the Department of Health and Human Services (45 FR 67772-76, dated October 14, 1980, and corrected at 45 FR 69296, October 20, 1980, as amended most recently at 67 FR 62474-77, dated October 2, 2002) is amended to reorganize the Office of Management and Operations, CDC.

Section C-B, Organization and Functions, is hereby amended as follows:

Delete the functional statement for the Office of Management and Operations (CAD) and insert the following:

(1) Provides leadership and direction on the development, operation, and appraisal on all aspects of human resource programs and policies; (2) designs human resource programs that support and enhance the CDC mission; (3) provides assistance to the CIOs in building the capacity to evaluate the effectiveness of their human resource programs and policies; (4) provides direction for the Agency's ethics program and alternative dispute resolution and activities; (5) carries out facilities and real property and space management functions for CDC, including new or expanded facilities, and a major repair and improvement program; and (6) plans, directs, and coordinates a security and emergency management program for CDC facilities and personnel.

Delete the functional statement for the Office of the Director (CAD1) and insert the following:

(1) Manages, directs, and coordinates the activities of the Office of Management and Operations (OMO); (2) provides leadership, guidance, and evaluation of management operations, human resources management, security management and facilities operations preformed by or on behalf of the Centers/Institute/Offices; (3) advises and assists the Director, CDC, and other key officials on all phases of these functions; (4) maintains liaison with officials of the HHS on management matters; and (5) participates in the development of CDC's goals and objectives.

Delete the functional statement for the Human Resources Management Office (CAD3) and insert the following:

(1) Provides service, support, advice, and assistance to CDC organizations, management, and employees in all areas of human resources management; (2) conducts and coordinates personnel management for CDC's civil service and Commissioned Corps personnel; (3) conducts CDC's fellowship programs; (4) develops and issues policies and procedures; conducts recruitment, special emphasis, staffing, position classification, position management, pay administration, performance management systems, employee training and development, and labor relations programs; (5) maintains personnel records and reports, and processes personnel actions and documents; (6) administers the Federal life and health insurance programs; (7) administers the employee recognition, suggestion, and incentive awards programs; (8) furnishes advice and assistance in the processing of Office of Workers' Compensation Program claims; (9) conducts CDC's substance abuse programs; (10) develops, maintains, and supports information systems to conduct personnel activities and provide timely information and analyses of CDC personnel and staffing to CDC management and employees; (11) maintains liaison with the Department of Health and Human Services and the U.S. Office of Personnel Management (USOPM) in the area of human resources management; and (12) administers the National Performance Review and Human Resources initiatives to meet current and future requirements.

Delete the functional statement for the Technical Services Section (CAD357) and insert the following:

(1) Provides central personnel services and assistance in the area of employee benefits, personnel action processing, data quality control/assessment, and files/records management; (2) serves as liaison between CDC and the HHS payroll office resolving discrepancies with pay and leave; (3) administers the leave donor program and processes time and attendance amendments; (4) provides policy guidance and technical advice and assistance on retirement, the Thrift Savings Plan, health/life insurance, and savings bonds; (5) codes and finalizes all personnel actions in the automated personnel data system; (6) assists with new employee orientation; (7) establishes and maintains the official personnel files system and administers personnel records storage and disposal program; (8) responds to employment verification inquiries; and (9) provides assistance in the implementation of the HHS Plan for a Drug Free Workplace.

After the Human Resources Management Office (CAD3), insert the following:

Office of Security and Emergency Preparedness (CAD4). (1) Plans, directs, coordinates, and evaluates a comprehensive protection and security program that requires the development of protection and security criteria to eliminate or control protection and security vulnerabilities encountered in the construction, operations, and maintenance of CDC's research laboratories, administration and support facilities, and the physical plant; (2) is responsible for all security and protection programs including education, training, technical assistance, physical security, identification badges, personnel security to include background/NACI checks, security clearances, adjudications, as well as door locks and card readers, parking and traffic control, vehicle inspections, clearing delivery vehicles, directly respond to emergency services personnel; (3) implements Federal and Departmental regulations and establishes CDC policies and procedures in the area of security, emergency management preparedness, and protection; (4) as the focal point for the receipt and transmittal of classified documents, clearances, and provides security briefing and debriefing for persons holding security clearances, and destroys outdated classified documents; (5) maintains liaison with international, national, State, and local law enforcement, emergency management agencies, and other institutions that are in geographic proximity to CDC facilities; (6) develops, implements and maintains an agency wide and comprehensive internal Emergency Management and Continuity of Operations Plans, this includes (but is not limited to) updates, training, testing and management of the system; (7) plans, conducts and coordinates programs to protect life, property, and the environment in the event of fire, explosions, hazardous materials and natural disasters; and (8) works closely with the Information Resources Management Office in the interrelationships between physical, personnel, and information security programs and critical infrastructure protection.

Dated: October 29, 2002.
Julie Louise Gerberding,
Director.

[FR Doc. 02-29414 Filed 11-19-02; 8:45 am]

BILLING CODE 4160-18-M